DEPARTMENT OF COMMERCE

National Oceanic and Atmospheric Administration

50 CFR Part 648

[Docket No. 140106011-4338-02]

RIN 0648-XD637

Fisheries of the Northeastern United States; Northeast Multispecies Fishery; Trip Limit Adjustment for the Common Pool Fishery

AGENCY: National Marine Fisheries Service (NMFS), National Oceanic and Atmospheric Administration (NOAA), Commerce.

ACTION: Temporary rule; inseason trip limit adjustment.

SUMMARY: This action reduces the possession limit for Southern New England/Mid-Atlantic yellowtail flounder for Northeast multispecies common pool vessels for the remainder of the 2014 fishing year. Federal regulations allow NMFS to adjust the trip limit, if necessary, to help ensure that a common pool quota is not exceeded. The common pool has caught 79 percent of its Southern New England/Mid-Atlantic yellowtail flounder quota. This action is intended to prevent the overharvest of the common pool's 2014 fishing year allocation of Southern New England/Mid-Atlantic yellowtail flounder.

DATES: This action is effective January 20, 2015, through April 30, 2015.

FOR FURTHER INFORMATION CONTACT: Brett Alger, Fishery Management Specialist, 978-675-2153.

SUPPLEMENTARY INFORMATION: Regulations governing the Northeast (NE) multispecies fishery are found at 50 CFR part 648, subpart F. The regulations at 50 CFR 648.86(o) authorize the Regional Administrator (RA) to adjust the possession limits for common pool vessels in order to prevent the overharvest or underharvest of the common pool quotas. The fishing year 2014 (May 1, 2014, through April 30, 2015) common pool sub-annual catch limit (sub-ACL) for Southern New England/Mid-Atlantic (SNE/MA) yellowtail flounder is 102.0 mt. Based on the most recent data and information, which includes vessel trip reports, dealer-reported landings, and vessel monitoring system (VMS) information, we have determined that 79 percent of the SNE/MA yellowtail flounder sub-ACL has been caught. Recent analysis shows that the common pool would likely exceed its allocation for SNE/MA yellowtail flounder if the trip limit is not reduced to the limits specified in this action. To address a potential overharvest, the trip limit for SNE/MA yellowtail flounder is reduced to 250 lb (113.4 kg) per day-at-sea (DAS) up to 500 lb (226.8 kg) per trip. The trip limit adjustment is effective January 20, 2015, through April 30, 2015, and applies to all common pool vessels.

Weekly quota monitoring reports for the common pool fishery can be found on our Web site at: http://www.nero.noaa.gov/ro/fso/MultiMonReports.htm. We will continue to monitor common pool catch through vessel trip reports, dealer-reported landings, VMS catch reports, and other available information and, if necessary, we will make additional adjustments to common pool management measures.

Classification

This action is required by 50 CFR part 648 and is exempt from review under Executive Order 12866.

The Assistant Administrator for Fisheries, NOAA (AA), finds good cause pursuant to 5 U.S.C. 553(b)(B) to waive prior notice and the opportunity for public comment because it would be impracticable and contrary to the public interest for the reasons stated below. Pursuant to 5 U.S.C. 553(d)(3), the AA also finds good cause to waive the 30-day delayed effectiveness period for the same reasons.

The regulations at § 648.86(o) authorize the RA to adjust the NE multispecies trip limits for common pool vessels in order to prevent the overharvest or underharvest of the common pool quotas. The catch data used as the basis for this action only recently became available. The available analysis indicates that if the SNE/MA yellowtail flounder trip limit is not reduced quickly, the common pool fishery will likely exceed its 2014 fishing year allocation for this stock. Any overages of the common pool quota any stock would undermine conservation objectives and trigger the implementation of accountability measures that would have negative economic impacts on common pool vessels. This action reduces the probability of the common pool fishery exceeding its allocations for SNE/MA yellowtail flounder. As a result, the time necessary to provide for prior notice and comment, and a 30-day delay in effectiveness, would prevent NMFS from implementing the necessary trip limit adjustment in a timely manner, which could undermine conservation objectives of the NE Multispecies Fishery Management Plan, and cause negative economic impacts to the common pool fishery.

Authority: 16 U.S.C. 1801 et seq.

Dated: January 13, 2015.
Emily H. Menashes,
Acting Director, Office of Sustainable Fisheries, National Marine Fisheries Service.

[FR Doc. 2015-00696 Filed 1-16-15; 8:45 am]

BILLING CODE 3510-22-P